DEPARTMENT OF COMMERCE

National Oceanic and Atmospheric Administration

[I.D. 031705D]

Magnuson-Stevens Act Provisions; General Provisions for Domestic Fisheries; Application for Exempted Fishing Permits

AGENCY: National Marine Fisheries Service (NMFS), National Oceanic and Atmospheric Administration (NOAA), Commerce.

ACTION: Notice; proposal for an exempted fishing permit to conduct experimental fishing; request for comments.

SUMMARY: NMFS announces that the Assistant Regional Administrator for Sustainable Fisheries, Northeast Region, NMFS (Assistant Regional Administrator) proposes to recommend that an exempted fishing permit (EFP) be issued in response to an application submitted by the Cape Cod Commercial Hook Fishermen's Association (CCCHFA), in collaboration with the New England Aquarium and NMFS. The EFP would allow up to 20 vessels to retain undersized Atlantic cod (Gadus morhua) while fishing in the Georges Bank Cod Hook Sector Area from approximately May 2005 through April 2006. The Assistant Regional Administrator has made a preliminary determination that the application contains all of the required information and warrants further consideration and that the activities to be authorized under the EFP would be consistent with the goals and objectives of the Northeast Multispecies Fishery Management Plan. However, further review and consultation may be necessary before a final determination is made to issue an EFP.

DATES: Written comments on this action must be received on or before April 6, 2005.

ADDRESSES: Comments on this notice may be submitted by e-mail to: DA5-54@noaa.gov. Include in the subject line the following document identifier: “Comments on CCCHFA Sub-legal Cod Survival EFP Proposal.”

Comments may also be sent to: Patricia A. Kurkul, Regional Administrator, NMFS, NE Regional Office, 1 Blackburn Drive, Gloucester, MA 01930. Mark the outside of the envelope “Comments on CCCHFA Sub-legal Cod Survival EFP Proposal.”

Or, comments may be faxed to: (978) 281-9135.

FOR FURTHER INFORMATION CONTACT: Jason Blackburn, Fishery Management Specialist, phone: 978-281-9326, fax: 978-281-9135.

SUPPLEMENTARY INFORMATION: On February 24, 2005, CCCHFA, in collaboration with the New England Aquarium and NMFS, submitted a complete application for a continuation of their study on mortality rates and survivability of undersized Atlantic cod harvested in the bottom-set longline and jig fisheries in southern New England. The applicant has submitted a new EFP request for a continuation of the study they began in 2004. Their initial efforts were hampered by a variety of setbacks, which limited the amount of sampling carried out under the original EFP in 2004. The new EFP would allow the applicant to continue their sampling regime during all four seasons of the 2005 fishing year, allowing them to complete their study, and assess seasonal differences in the rates of survival. The CCCHFA has requested exemption from the restrictions on possession of undersized Atlantic cod at 50 CFR 648.83(a) in order to retain sub-legal cod for study. The applicant has also requested that trips used solely for the purposes of retrieving fish cages be exempt from the multispecies Days-At-Sea (DAS) requirements specified at § 648.82(a). The proposed study would occur inside the Georges Bank Cod Hook Sector Area. At no time would fishing operations be conducted inside year-round closure areas.

The experiment would occur from approximately May 2005 through April 2006, during which time longline vessels would sample at 20, 30, and 40 fathoms (36.6, 54.9, and 73.2 m, respectively), for up to a total of 54 trips. There would be an additional 18 trips used solely for the purposes of retrieving fish cages. There would be no fish landed during cage retrieval trips. There would be up to 20 vessels participating in this study. Each vessel would fish its bottom-set longline gear consisting of 1,800 ft (548.6 m) of mainline with 300 number 12 circle hooks spaced every 6 ft (1.83 m). Approximately 3,600 hooks would be set per fishing day, with a soak time of 3-4 hours. After the vessel sets the longline, it would begin the jigging portion of the study. The undersized cod would be measured, weighed, and tagged to determine survivability rates of the undersized cod. The applicant would use several different handling techniques for all longline caught fish: Alternate fish would be flipped off the hook or snubbed (allowing the hook to pass through the jaw). All fish caught during the jigging portion would be flipped off the hook. During each season, a minimum of 150 undersized fish would be collected and retained for 72 hours in each cage at each of the sample depths. The cage would be constructed to hug tight to the sea floor and to resist rolling in the highly tidal areas. The cage gear was designed in 2004 to meet the requirements of the Atlantic Large Whale Take Reduction Plan. Other than the above protocol, the vessels would follow normal fishing practices. All fish landed would be subject to existing minimum size and trip limit requirements. All mortality associated with this research project has been fully accounted for in the Amendment 13 rebuilding plan, and is controlled by the Georges Bank Cod Hook Sector Hard Total Allowable Catch (TAC), and through the use of A DAS.

A scientific data collector would be present on board each participating vessel. Scientific data collectors would be responsible for collecting all relevant biological and environmental data. CCCHFA would be responsible for developing a full report of the results of this study, and for providing this report to NMFS.

Regulations under the Magnuson-Stevens Fishery Conservation and Management Act require publication of this notification to provide interested parties the opportunity to comment on applications for proposed EFPs.

Authority: 16 U.S.C. 1801 et seq.

Dated: March 17, 2005.
Alan D. Risenhoover,
Acting Director, Office of Sustainable Fisheries, National Marine Fisheries Service.

[FR Doc. E5-1252 Filed 3-21-05; 8:45 am]

BILLING CODE 3510-22-S